ENVIRONMENTAL PROTECTION AGENCY

[FRL-8535-7]

Proposed CERCLA Administrative Cashout Settlement; Elite Laundry Superfund Site, Jaffrey, NH

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement for recovery of past and projected future response costs concerning the Elite Laundry Superfund Site in Jaffrey, New Hampshire with the following settling parties: Route 202 at Route 124, Jaffrey, New Hampshire, LLC; Rared Jaffrey, LLC; and, Guilford Transportation. The settling parties have agreed to reimburse the United States $56,250, and have also agreed to reimburse the State of New Hampshire $56,250. The settlement includes a covenant not to sue the settling parties pursuant to Sections 106 and 107(a) of CERCLA, 42 U.S.C. 9606 and 9607(a). For thirty (30) days following the date of publication of this notice, the United States will receive written comments relating to the settlement. The United States will consider all comments received and may modify or withdraw its consent to the settlement if comments received disclose facts or considerations which indicate that the settlement is inappropriate, improper, or inadequate.

The United States' response to any comments received will be available for public inspection at One Congress Street, Boston, MA 02114-2023.

DATES: Comments must be submitted by June 9, 2008.

ADDRESSES: Comments should be addressed to the Regional Hearing Clerk, U.S. Environmental Protection Agency, Region I, One Congress Street, Suite 1100 (RAA), Boston, Massachusetts 02114-2023 and should refer to: In re: The Elite Laundry Superfund Site, U.S. EPA Docket Number CERCLA-01-2007-0137.

FOR FURTHER INFORMATION CONTACT: A copy of the proposed settlement may be obtained from Steven Schlang, Senior Enforcement Counsel, U.S. Environmental Protection Agency, Region I, Office of Environmental Stewardship, One Congress Street, Suite 1100 (SES), Boston, MA 02114-2023 or at (617) 918-1773.

Dated: February 25, 2008.
Richard Cavagnero,
Acting Director, Office of Site Remediation and Restoration.

[FR Doc. E8-10310 Filed 5-7-08; 8:45 am]

BILLING CODE 6560-50-P